DEPARTMENT OF LABOR

Agency Information Collection Activities; Submission for OMB Review; Comment Request; Enhancing Registered Apprenticeship Initiatives, New Collection

AGENCY: Office of the Assistant Secretary for Policy, Chief Evaluation Office, Department of Labor.

ACTION: Notice of information collection; request for comment.

SUMMARY: The Department of Labor (DOL), as part of its continuing effort to reduce paperwork and respondent burden, conducts a preclearance consultation program to provide the general public and federal agencies with an opportunity to comment on proposed and/or continuing collections of information in accordance with the Paperwork Reduction Act of 1995 (PRA95). This program helps to ensure that requested data can be provided in the desired format, reporting burden (time and financial resources) is minimized, collection instruments are clearly understood, and the impact of collection requirements on respondents is properly assessed. Currently, the Department of Labor is soliciting comments concerning the collection of data about the Enhancing Registered Apprenticeship Initiatives. A copy of the proposed Information Collection Request (ICR) can be obtained by contacting the office listed below in the addressee section of this notice.

DATES: Written comments must be submitted to the office listed in the addressee section below on or before July 3, 2023.

ADDRESSES: You may submit comments by either one of the following methods:

Email: ChiefEvaluationOffice@dol.gov; Mail or Courier: Monica Mean, Chief Evaluation Office, OASP, U.S. Department of Labor, Room S-2312, 200 Constitution Avenue NW, Washington, DC 20210. Instructions: Please submit one copy of your comments by only one method. All submissions received must include the agency name and OMB Control Number identified above for this information collection. Comments, including any personal information provided, become a matter of public record. They will also be summarized and/or included in the request for OMB approval of the information collection request.

FOR FURTHER INFORMATION CONTACT: Monica Mean by email at ChiefEvaluationOffice@dol.gov or by phone at (202) 693-6034.

SUPPLEMENTARY INFORMATION: I. Background: The Chief Evaluation Office (CEO) of the U.S. Department of Labor (DOL) intends to design and conduct evaluations of DOL-funded apprenticeship initiatives through the Enhancing Registered Apprenticeship Initiatives (ERAI) project. The purpose of the project is three-fold:

(1) Design and conduct analyses that add to the evidence base on apprenticeship strategies and models through an evaluation of the Apprenticeship Building American (ABA) grants.

(2) Conduct an impact and cost-benefit evaluability assessment of pre-registered apprenticeship programs that lead to registered apprenticeship programs (RAPs).

(3) Coordinate across the portfolio of apprenticeship projects at CEO and beyond to facilitate sharing of findings, methods, and learning about apprenticeship broadly across research teams.

DOL's CEO contracted with Urban Institute and its partners, Mathematica, and Social Policy Research Associates to conduct the study of these efforts. The ERAI will address the first purpose above by conducting three implementation studies based on the four categories of the ABA grants:

(1) Implementation study of the ABA State Apprenticeship System Building and Modernization grants (Category 1)

(2) Implementation study of the ABA Expansion of RAP Opportunities for Youth grants (Category 2) and ABA Ensuring Equitable RAP Pathways through Pre-Apprenticeship Leading to RAP enrollment and Equity Partnerships grants (Category 3)

(3) Implementation study of ABA registered apprenticeship Hubs grants (Category 4)

This Federal Register Notice provides the opportunity to comment on proposed data collection instruments that will be used in the evaluations: grantee surveys for the three ABA implementation studies; surveys of pre-apprentice and apprentice participants; a focus group guide for apprentices and pre-apprentices; interview guides for ABA grantee program staff; interview guides for ABA grantee program partners, employers, and Hub customers; focus group guide for ABA apprentice and pre-apprentice participants; baseline survey and informed consent of ABA pre-apprenticeship participants; and related baseline survey and informed consent of ABA program staff.

1-3. Surveys for ABA grantees. Three surveys to all ABA grantees for each of the three implementation studies listed above. There are 5 grantees in the Study 1 survey, 19 grantees in the Study 2 survey, and 15 grantees in the Study 3 survey. These will be fielded in spring 2024.

4-5. Surveys of ABA participants. A survey of Study 2 ABA apprentices and a survey of Study 2 ABA pre-apprentices.

6. Focus group guide for ABA participants. A guide for focus groups conducted in Study 1 (5 total) and Study 2 (4 total) assuming 10 participants per group.

7-9. Interview guides for ABA program staff. During site visits, interviews with 5 program staff from ABA State grantees (study 1), 6 ABA Youth or Pre-Apprenticeship grantees (study 2), and 5 ABA Hub grantees (study 3) will occur in the fall of 2024. During these site visits, we will conduct one-on-one or small-group semi-structured interviews with program staff.

10-12. Interview guides for ABA program partners/employers. Also, as part of each of these site visits, we will conduct one-on-one or small-group semi-structured interviews with staff from program partners, including employers, training and education providers, and community stakeholders.

13. Interview guide for ABA Hub grantee customers. In addition, during site visits for the Hub grantees (Category 4) we will interview customers for which that Hub has provided technical assistance.

14. Baseline survey and informed consent of pre-apprenticeship participants. Survey of ABA pre-apprenticeship program participants to collect baseline information for potential future impact study.

15. Baseline survey and informed consent of program staff. Survey of ABA pre-apprenticeship (grant categories 1 and 2) program staff, including supervisors, instructors, and counselors, to collect baseline information and informed consent.

DOL will submit additional requests for future data collection for the overall study.

II. Desired Focus of Comments: Currently, DOL is soliciting comments concerning the above data collection for Enhancing Registered Apprenticeship Initiatives. DOL is particularly interested in comments that do the following:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology—for example, permitting electronic submission of responses.

III. Current Actions: At this time, DOL is requesting clearance for grantee surveys for the three ABA implementation studies; surveys of pre-apprentice and apprentice participants; a focus group guide for apprentices and pre-apprentices; interview guides for ABA grantee program staff; interview guides for ABA grantee program partners, employers, and Hub customers; focus group guide for ABA apprentice and pre-apprentice participants; baseline survey and informed consent of ABA pre-apprenticeship participants; and related baseline survey and informed consent of ABA program staff.

Type of Review: New information collection request.

OMB Control Number: 1290-0NEW.

Affected Public: Program staff, program partners, and participants of the Apprenticeship Building America grants.

Comments submitted in response to this request will be summarized and/or included in the request for Office of Management and Budget approval of the information collection request; they will also become a matter of public record.

Estimated Annual Burden Hours
Type of instrument | Number of respondents | Number of responses per respondent | Total number of responses | Average burden per response (in hours) | Estimated burden hours | Average hourly wage ($) ¹ | Annual burden costs
ABA Youth and Pre-Apprenticeship grantee survey | ² 19 | 1 | 19 | 3 | 57 | 36.92 | 2,104.44
ABA State grantee survey | ² 5 | 1 | 5 | 1.5 | 7.5 | 36.92 | 276.90
ABA Hub grantee survey | ² 15 | 1 | 15 | 1.5 | 22.5 | 36.92 | 830.70
ABA Pre-apprenticeship participant survey | ³ 1,000 | 1 | 1,000 | 1 | 1,000 | 7.25 | 7,250
ABA Apprenticeship participant survey | ³ 1,000 | 1 | 1,000 | 1 | 1,000 | 7.25 | 7,250
ABA participant focus group protocol | ⁴ 90 | 1 | 90 | 1.5 | 135 | 7.25 | 978.75
ABA Youth and Pre-Apprenticeship grantee staff interview protocol | ⁵ 24 | 1 | 24 | 1 | 24 | 36.92 | 886.08
ABA Youth and Pre-Apprenticeship partner/employer interview protocol | ⁵ 18 | 1 | 18 | 1 | 18 | 36.92 | 664.65
ABA State grantee staff/partner interview protocol | ⁶ 30 | 1 | 30 | 1 | 30 | 36.92 | 1,107.60
ABA State employer interview protocol | ⁶ 10 | 1 | 10 | 1 | 10 | 36.92 | 369.20
ABA Hub grantee staff interview protocol | ⁷ 20 | 1 | 20 | 1 | 20 | 36.92 | 738.40
ABA Hub partner interview protocol | ⁷ 20 | 1 | 20 | 1 | 20 | 36.92 | 738.40
ABA Hub customer interview protocol | ⁷ 15 | 1 | 15 | .5 | 7.5 | 36.92 | 276.90
ABA Impact Baseline survey—pre-apprentices | ⁸ 1000 | 1 | 1,000 | 0.33 | 330 | 7.25 | 2,392.50
ABA Impact Baseline survey and consent-program staff ³ | ⁹ 40 | 25 | 1,000 | 0.33 | 330 | 36.92 | 12,183.60
Total | 3,306 | 39 | 4,266 | 16.66 | 3,011.5 | 435.12 | 38,048.03
Note: Each of the activities described in the table below, with the exception of the ABA Impact Baseline survey and consent appearing in last two rows, will take place within one calendar year so the annualized burden represents the total burden for the study. The ABA Impact Baseline survey for pre-apprentices and consent from administered by program staff represent annualized estimates for random assignment. We estimate these activities could cover up to three years.
¹ Hourly wage for program staff and partners reflects the May 2021 mean hourly wage estimate for “social and community service managers” as reported by the U.S. Department of Labor, Bureau of Labor Statistics, Occupational Employment and Wage Estimates, 2022, “May 2021 National Occupational Employment and Wage Estimates United States,” (accessed from the following website as of March 29, 2022: https://www.bls.gov/oes/current/oes_nat.htm. For apprentices and pre-apprentices the hourly wage listed is the minimum wage.
² Assumes each of the ABA grantees is surveyed.
³ This assumes that we survey roughly 3,000 apprentices and 3,000 pre-apprentices with a 33 percent response rate.
⁴ Assumes 5 focus groups (one per state) in study 1 and 4 focus groups in study 2. Assumes 10 participants per group.
⁵ Assumes 6 sites visited for study 2 and interview 4 program staff and 3 partners (including employers) per site.
⁶ Assumes 5 sites visited for study 1 and interview 4 grantee staff and 3 partners (other than employers) and 2 employers.
⁷ Assumes 5 sites visited for study 3 interviews with 4 grantee staff, 4 partners (including employers) and 3 customers.
⁸ Assumes 1,000 participants randomized every year.
⁹ The burden estimate for the program staff assumes they will help with collecting the baseline survey and consent form information from program participants. Assumes 40 staff assist in participant randomization every year, each serving 25 participants.

Karen Livingston,
Acting Chief Evaluation Officer, U.S. Department of Labor.

[FR Doc. 2023-09491 Filed 5-3-23; 8:45 am]

BILLING CODE 4510-HX-P